DEPARTMENT OF COMMERCE

International Trade Administration

[A-533-810]

Stainless Steel Bar From India: Final Results of Changed Circumstances Review and Reinstatement of Certain Companies in the Antidumping Duty Order

AGENCY: Enforcement and Compliance, International Trade Administration, Department of Commerce.

SUMMARY: The Department of Commerce (Commerce) has determined that certain producers/exporters of stainless steel bar (SS Bar) from India made sales of subject merchandise at less than normal value (NV) during the period of review (POR) July 1, 2015, through June 30, 2016. Accordingly, they are hereby reinstated in the antidumping order on SS Bar from India.

DATES: Applicable April 20, 2018.

FOR FURTHER INFORMATION CONTACT: Thomas Schauer, AD/CVD Operations, Office I, Enforcement and Compliance, International Trade Administration, U.S. Department of Commerce, 1401 Constitution Avenue NW, Washington, DC 20230; telephone (202) 482-0410.

SUPPLEMENTARY INFORMATION:

Background

On October 18, 2017, Commerce published the preliminary results of this changed circumstances review and intent to reinstate Venus Wire Industries Pvt. Ltd. and its affiliates Precision Metals, Sieves Manufacturers (India) Pvt. Ltd., and Hindustan Inox Ltd. (collectively, the Venus Group), and Viraj Profìles Ltd. (Viraj) in the antidumping duty order on SS Bar from India.¹ This review covers SS Bar from India produced and/or exported by the Venus Group and Viraj.

¹ See Stainless Steel Bar from India: Preliminary Results of Changed Circumstances Review and Intent To Reinstate Certain Companies in the Antidumping Duty Order, 82 FR 48483, October 18, 2017 (CCR Preliminary Results).

On January 9, 2018, we received case briefs from the Venus Group and Viraj.² On January 9, 2018, we received a rebuttal brief from the petitioners.³ On March 8, 2018, Commerce held a public hearing at the request of Viraj.

² See Letter from the Venus Group, “Stainless Steel Bar from India: Administrative Case Brief of Venus Wire Industries Pvt. Ltd.,” dated January 9, 2018, and Letter from Viraj, “Stainless Steel Bar from India: Case Brief,” dated January 9, 2018.

³ See Letters from the petitioners, “Petitioners' Rebuttal Brief Regarding Venus,” dated January 19, 2018, and “Petitioners' Rebuttal Brief Regarding Viraj,” dated January 19, 2018. The petitioners are Carpenter Technology Corporation, Crucible Industries LLC, Electralloy, a Division of G.O. Carlson, Inc., North-American Stainless, Outokumpu Stainless Bar, LLC, Universal Stainless & Alloy Products, Inc., and Valbruna Slater Stainless, Inc.

Commerce conducted this changed circumstances review in accordance with section 751(b)(1) of the Tariff Act of 1930, as amended (the Act) and 19 CFR 351.216(d). For a full description of the methodology underlying our conclusions, see the Issues and Decision Memorandum.⁴ The Issues and Decision Memorandum is a public document and is on file electronically via Enforcement and Compliance's Antidumping and Countervailing Duty Centralized Electronic Service System (ACCESS). ACCESS is available to registered users at https://access.trade.gov, and it is available to all parties in the Central Records Unit, room B8024 of the main Department of Commerce building. In addition, a complete version of the Issues and Decision Memo can be accessed directly at http://enforcement.trade.gov/frn/.

⁴ See Memorandum, “Issues and Decision Memorandum for the Antidumping Duty Changed Circumstances Review of Stainless Steel Bar from India,” dated concurrently with and hereby adopted by this notice (Issues and Decision Memorandum).

Scope of the Order

The merchandise subject to the order is SS bar. SS bar means articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. SS bar includes cold-finished SS bars that are turned or ground in straight lengths, whether produced from hot-rolled bar or from straightened and cut rod or wire, and reinforcing bars that have indentations, ribs, grooves, or other deformations produced during the rolling process.

Except as specified above, the term does not include stainless steel semi-finished products, cut-to-length flat-rolled products (i.e., cut-to-length rolled products which if less than 4.75 mm in thickness have a width measuring at least 10 times the thickness, or if 4.75 mm or more in thickness having a width which exceeds 150 mm and measures at least twice the thickness), wire (i.e., cold-formed products in coils, of any uniform solid cross section along their whole length, which do not conform to the definition of flat-rolled products), and angles, shapes, and sections.

Imports of these products are currently classifiable under subheadings 7222.10.00, 7222.11.00, 7222.19.00, 7222.20.00, 7222.30.00 of the Harmonized Tariff Schedule (HTS). Although the HTS subheadings are provided for convenience and customs purposes, our written description of the scope of the order is dispositive.

Basis for Reinstatement

In requesting revocation, pursuant to 19 CFR 353.25(b) (1996) and 19 CFR 353.25(a)(2)(iii) (1996),⁵ both the Venus Group and Viraj agreed to immediate reinstatement of the order, so long as any exporter or producer is subject to the order, if the Secretary concludes that subsequent to the revocation, the Venus Group and/or Viraj sold SS Bar in the United States at less than NV.⁶ Under 19 CFR 353.25(a)(2)(iii) (1996), as long as any exporter or producer is subject to an antidumping duty order which remains in force, an entity previously granted a revocation may be reinstated under that order if it is established that the entity has resumed the dumping of subject merchandise.

⁵ The regulation that was in effect when the Venus Group and Viraj requested revocation was amended in 1997 to become 19 CFR 351.222(b). This regulation was then revoked in 2012. See Modification to Regulation Concerning the Revocation of Antidumping and Countervailing Duty Orders, 77 FR 29875 (May 21, 2012). However, when revoking this regulation, Commerce noted that “{a}ny company that has been revoked from an antidumping . . . order will remain subject to its certified agreement to be reinstated with respect to that order if Commerce finds it to have resumed dumping. . . .” See id. at 29882.

⁶ See Stainless Steel Bar from India; Final Results, Rescission of Antidumping Duty Administrative Review in Part, and Determination To Revoke in Part, 69 FR 55409 (September 14, 2004) (Viraj Revocation) and Stainless Steel Bar from India: Final Results of the Antidumping Duty Administrative Review, and Revocation of the Order, in Part, 76 FR 56401 (September 13, 2011) (Venus Revocation).

In this case, because other exporters in India remain subject to the SS Bar order, the order remains in effect, and the Venus Group and/or Viraj may be reinstated in the order. Commerce conditionally granted the Venus Group and Viraj revocation based, in part, upon their agreement to immediate reinstatement in the antidumping duty order if Commerce were to find that the companies resumed dumping of SS Bar from India.⁷

⁷ See Viraj Revocation, 69 FR at 55411 (“Viraj provided each of the certifications required under 19 CFR 351.222(e) . . . {including} an agreement to immediate reinstatement of the order if the Department concludes that the company, subsequent to the revocation, sold subject merchandise at less than NV.”) and Venus Revocation, 76 at 56402-3 (“the company has agreed to immediate reinstatement of the order if we find that it has resumed making sales at less than fair value”).

As discussed in the Issues and Decision Memorandum, we continue to find that the use of facts available is warranted in determining the dumping margin of the Venus Group and Viraj pursuant to section 776(a) of the Act. Further, we continue to find that the Venus Group and Viraj failed to cooperate to the best of their ability and, therefore, the use of facts available with an adverse inference is appropriate (AFA), pursuant to section 776(b) of the Act. We have assigned, as AFA, the rates below to the Venus Group and Viraj. Accordingly, we are reinstating the Venus Group and Viraj in the antidumping duty order on SS Bar from India.

Analysis of Comments Received

All issues raised in the case and rebuttal briefs by parties to this changed circumstances review are addressed in the Issues and Decision Memorandum. A list of the issues which parties raised and to which we respond in the Issues and Decision Memorandum is attached to this notice as an Appendix.

Final Results of Review

Commerce determines that the following weighted-average dumping margins exist for the period July 1, 2015, through June 30, 2016:

Producer/exporter | Weighted-average dumping margin (percent)
Venus Wire Industries Pvt. Ltd. and its affiliates Precision Metals, Sieves Manufacturers (India) Pvt. Ltd., and Hindustan Inox Ltd | 30.92
Viraj Profìles Ltd ⁸ | 30.92

Disclosure

Normally, the Department discloses to interested parties the calculations performed in connection with the final results of changed circumstances review within five days after public announcement of the final results of changed circumstances review in accordance with 19 CFR 351.224(b). Because Commerce used an adverse inference in selecting from among the facts otherwise available to each of the respondents in this changed circumstances review, in accordance with section 776 of the Act, there are no calculations to disclose.

⁸ Viraj Alloys, Ltd., Viraj Forgings, Ltd., and Viraj Impoexpo, Ltd., are collectively now known as Viraj Profiles Limited. In July 2006, Viraj Forgings Ltd. merged with Viraj Alloys Ltd.; in April 2007, Viraj Alloys and Viraj Impoexpo Ltd. merged into Viraj Profiles Ltd.

Cash Deposit Requirements

Because we established that SS bar from India produced and/or exported by the Venus Group and Viraj are being sold at less than NV, the Venus Group and Viraj are hereby reinstated in the antidumping duty order on SS Bar from India effective upon the publication of this notice in the Federal Register. We will instruct U.S. Customs and Border Protection (CBP) to continue to suspend liquidation of all entries at 30.92 percent and to continue to require a cash deposit at the current rate for all shipments of the subject merchandise of SS Bar produced and/or exported by either the Venus Group and Viraj and entered, or withdrawn from warehouse, for consumption on or after October 18, 2017, the date of publication of the preliminary results in the Federal Register. These instructions shall remain in effect until further notice.

Notifications to Interested Parties

This notice serves as the only reminder to parties subject to administrative protective order (APO) of their responsibility concerning the disposition of proprietary information disclosed under APO in accordance with 19 CFR 351.305(a)(3). Timely written notification of return or destruction of APO materials, or conversion to judicial protective order, is hereby requested. Failure to comply with the regulations and the terms of an APO is a sanctionable violation.

We are issuing and publishing these results of review in accordance with sections 751(b)(1) and 777(i)(1) of the Act and 19 CFR 351.216.

Dated: April 16, 2018.
Gary Taverman,
Deputy Assistant Secretary for Antidumping and Countervailing Duty Operations, performing the non-exclusive functions and duties of the Assistant Secretary for Enforcement and Compliance.

Appendix—List of Topics Discussed in the Issues and Decision Memorandum

1. Summary

2. Background

3. Scope of the Order

4. Discussion of the Issues

a. Whether Adverse Facts Available Is Warranted for the Venus Group

b. Whether Adverse Facts Available Is Warranted for Viraj

5. Recommendation

[FR Doc. 2018-08290 Filed 4-19-18; 8:45 am]

BILLING CODE 3510-DS-P